DEPARTMENT OF COMMERCE

National Oceanic and Atmospheric Administration

[RTID 0648-XF336]

Gulf Fishery Management Council; Public Meeting

AGENCY: National Marine Fisheries Service (NMFS), National Oceanic and Atmospheric Administration (NOAA), Commerce.

ACTION: Notice of a public meeting.

SUMMARY: The Gulf Fishery Management Council will hold a 1 day in-person meeting of its Outreach and Education Technical Committee.

DATES: The meeting will convene on Thursday, December 11, 2025, 8:30 a.m.-4 p.m., EST.

ADDRESSES: The meeting will be held in-person at the Gulf Council office. Please visit the Gulf Council website at www.gulfcouncil.org for meeting materials.

Council address: Gulf Fishery Management Council, 4107 W Spruce Street, Suite 200, Tampa, FL 33607; telephone: (813) 348-1630.

FOR FURTHER INFORMATION CONTACT: Emily Muehlstein, Public Information Officer, Gulf Fishery Management Council; emily.muehlstein@gulf council.org, telephone: (813) 348-1630.

SUPPLEMENTARY INFORMATION:

Thursday, December 11, 2025; 8:30 a.m. Until 4 p.m., EST

The Meeting will begin with welcome and introductions, adoption of agenda, approval of November 13, 2024 meeting summary, and scope of work.

The Committee will review Recreational Initiative Recommendations, Fishery Ecosystem Plan/Fishery Ecosystem Issue Stakeholder Engagement and Communications Plan. The Committee will receive an update on Sea Grant Reef Fish Extension, and discuss the Anonymous Voicemail Pilot, Council Learning Opportunities and Management Area and Boundaries Mapping. The Committee will review the progress of 2025 Communications Improvement Plan and 2025 Analytics and discuss 2026 Communications Improvement Plan Ideas.

The Committee will discuss Other Business items and receive Public Comment before the meeting adjourns.

—Meeting Adjourns

The Agenda is subject to change, and the latest version along with other meeting materials will be posted on www.gulfcouncil.org.

Although other non-emergency issues not on the agenda may come before this group for discussion, in accordance with the Magnuson-Stevens Fishery Conservation and Management Act, those issues may not be the subject of formal action during this meeting. Actions will be restricted to those issues specifically identified in the agenda and any issues arising after publication of this notice that require emergency action under Section 305(c) of the Magnuson-Stevens Fishery Conservation and Management Act, provided the public has been notified of the Council's intent to take-action to address the emergency.

Authority: 16 U.S.C. 1801 et seq.

Dated: December 2, 2025.
Rey Israel Marquez,
Acting Deputy Director, Office of Sustainable Fisheries, National Marine Fisheries Service.

[FR Doc. 2025-21920 Filed 12-3-25; 8:45 am]

BILLING CODE 3510-22-P